DEPARTMENT OF COMMERCE

National Oceanic and Atmospheric Administration

RIN 0648-XC252

Endangered Species; File No. 17316

AGENCY: National Marine Fisheries Service (NMFS), National Oceanic and Atmospheric Administration (NOAA), Commerce.

ACTION: Notice; receipt of application.

SUMMARY: Notice is hereby given that George Burgess, Ph.D., Florida Museum of Natural History, Dickinson Hall, University of Gainesville, Gainesville, FL, 32611, has applied in due form for a permit to take smalltooth sawfish (Pristis pectinata) for purposes of scientific research.

DATES: Written, telefaxed, or email comments must be received on or before October 24, 2012.

ADDRESSES: The application and related documents are available for review by selecting Records Open for Public Comment from the Features box on the Applications and Permits for Protected Species (APPS) home page, https://apps.nmfs.noaa.gov, and then selecting File No. 17316 from the list of available applications.

These documents are also available upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727)824-5309.

Written comments on this application should be submitted to the Chief, Permits and Conservation Division

• By email to NMFS.Pr1Comments@noaa.gov (include the File No. in the subject line of the email),

• By facsimile to (301) 713-0376, or

• At the address listed above.

Those individuals requesting a public hearing should submit a written request to the Chief, Permits and Conservation Division at the address listed above. The request should set forth the specific reasons why a hearing on this application would be appropriate.

FOR FURTHER INFORMATION CONTACT: Colette Cairns or Jennifer Skidmore, (301) 427-8401.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to gather life history information on smalltooth sawfish (Pristis pectinata) populations of Florida, primarily in Florida Bay and the upper Keys area. The purpose of the research is to investigate the movements and habitat use of smalltooth sawfish in Florida waters. Annually, up to 80 sawfish would be captured by gillnet, longline, or angling gear, measured, passive integrated transponder, roto, dart, and external satellite tagged, tissue, muscle, and blood sampled, and released. Dead sawfish acquired through strandings or from law enforcement confiscations would be sampled for scientific purposes. The permit is requested for a duration of 5 years.

Dated: September 18, 2012.
P. Michael Payne,
Chief, Permits and Conservation Division, Office of Protected Resources, National Marine Fisheries Service.

[FR Doc. 2012-23491 Filed 9-21-12; 8:45 am]

BILLING CODE 3510-22-P